DEPARTMENT OF VETERANS AFFAIRS

VA National Academic Affiliations Council, Notice of Meeting

The Department of Veterans Affairs (VA) gives notice under the Federal Advisory Committee Act that a meeting of the VA National Academic Affiliations Council (the Council) will be held March 20, 2019-March 21, 2019 at the VA Office of Academic Affiliations Conference Room 4040, 4th Floor, 811 Vermont Avenue NW, Washington, DC 20420. The meetings will be held:

Date: | Time:
Wednesday, March 20, 2019 | 9:00 a.m.-4:00 p.m. (EST).
Thursday, March 21, 2019 | 9:00 a.m.-12:00 p.m. (EST).

The meetings are open to the public.

The purpose of the Council is to advise the Secretary on matters affecting partnerships between VA and its academic affiliates.

On March 20, 2019, the Council will receive annual Federal Advisory Committee Act (FACA) and Ethics training, and explore recent diversity and inclusion activities. The Council will have an open discussion with Dr. Carolyn Clancy, Former Executive-in-Charge and currently assigned oversight responsibilities for the Offices of Academic Affiliations and Research and Development. NAAC members will receive a presentation from the Strategic Academic Advisory Council (SAAC) and an update on MISSION Act (Pub. L. 115-182) provisions related to health professions education.

On March 21, 2019, the Council will explore the VA Electronic Health Record Modernization as related to education and research, and will receive a status update on Academic Partnership Councils in VA. The Council will receive public comments from 3:45 p.m. to 4:00 p.m. on March 20, 2019; and again, at or before 11:30 a.m. to 11:45 a.m. on March 21, 2019.

Interested persons may attend and present oral statements to the Council. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting or at any time, via email to, Larissa.Emory@va.gov, or by mail to Larissa Emory PMP, CBP, MS, Designated Federal Officer, Office of Academic Affiliations (10X1), 810 Vermont Avenue NW, Washington, DC 20420. Any member of the public wishing to attend or seeking additional information should contact Ms. Emory via email or by phone at (915) 269-0465. Because the meeting will be held in a Government building, anyone attending must be prepared to submit to security screening and present a valid photo I.D. Please allow at least 30 minutes prior to the meeting for this process.

Dated: February 6, 2019.
Jelessa M. Burney,
Federal Advisory Committee Management Officer.

[FR Doc. 2019-01907 Filed 2-8-19; 8:45 am]

BILLING CODE P